DEPARTMENT OF ENERGY

Federal Energy Regulatory Commission

Combined Notice of Filings #1

August 3, 2010.

Take notice that the Commission received the following electric rate filings:

Docket Numbers: ER06-1409-005; ER06-1408-005; ER06-1407-005; ER06-1413-005; ER08-577-006; ER08-578-003; ER08-579-007; ER08-1443-003.

Applicants: Noble Wethersfield Windpark, LLC, Noble Chateaugay Windpark, LLC, Noble Bellmont Windpark, LLC, Noble Ellenburg Windpark, LLC, Noble Bliss Windpark, LLC, Noble Clinton Windpark I, LLC, Noble Altona Windpark, LLC, Noble Great Plains Windpark, LLC.

Description: Noble Wethersfield Windpark, LLC, et al. submits amended Quarterly Land Acquisition Report for the third quarter of 2009.

Filed Date: 07/30/2010.

Accession Number: 20100730-5262.

Comment Date: 5 p.m. Eastern Time on Friday, August 20, 2010.

Docket Numbers: ER10-1262-001.

Applicants: The Detroit Edison Company.

Description: The Detroit Edison Company submits its baseline tariff, FERC Electric Tariff Volume No 4, Compliance Filing, to be effective5/17/2010.

Filed Date: 08/03/2010.

Accession Number: 20100803-5016.

Comment Date: 5 p.m. Eastern Time on Tuesday, August 24, 2010.

Docket Numbers: ER10-2068-001.

Applicants: Delaware City Refining Company LLC.

Description: Delaware City Refining Company LLC submits tariff filing per 35.17(b): Correction to Change-in-Status Notification Record Content to be effective 10/1/2010.

Filed Date: 08/02/2010.

Accession Number: 20100802-5101.

Comment Date: 5 p.m. Eastern Time on Monday, August 23, 2010.

Docket Numbers: ER10-2076-001.

Applicants: Kansas City Power & Light Company.

Description: Kansas City Power & Light Company submits tariff filing per 35: KCP&L OATT Baseline Compliance to be effective 7/30/2010.

Filed Date: 08/02/2010.

Accession Number: 20100802-5109.

Comment Date: 5 p.m. Eastern Time on Monday, August 23, 2010.

Docket Numbers: ER10-2078-001.

Applicants: White Oak Energy LLC.

Description: White Oak Energy LLC submits tariff filing per 35.17(b): Supplement to Initial Market-Based Rate Application to be effective 11/10/2010.

Filed Date: 08/02/2010.

Accession Number: 20100802-5075.

Comment Date: 5 p.m. Eastern Time on Monday, August 23, 2010.

Docket Numbers: ER10-2089-000.

Applicants: Southern California Edison Company.

Description: Southern California Edison Company submits the Standard Large Generator Interconnection Agreement with Solar Partners II, LLC et al, to be effective 8/3/2010.

Filed Date: 08/02/2010.

Accession Number: 20100802-5086.

Comment Date: 5 p.m. Eastern Time on Monday, August 23, 2010.

Docket Numbers: ER10-2090-000.

Applicants: Midwest Independent Transmission System.

Description: Midwest Independent Transmission System Operator, Inc. submits tariff filing per 35: 08-02-10 CONE recalculation to be effective6/1/2011.

Filed Date: 08/02/2010.

Accession Number: 20100802-5100.

Comment Date: 5 p.m. Eastern Time on Monday, August 23, 2010.

Docket Numbers: ER10-2091-000.

Applicants: Southern California Edison Company.

Description: Southern California Edison Company submits tariff filing per 35.13(a)(2)(iii: TOT LGIA SA 85 N 080210 to be effective 8/3/2010.

Filed Date: 08/02/2010.

Accession Number: 20100802-5115.

Comment Date: 5 p.m. Eastern Time on Monday, August 23, 2010.

Docket Numbers: ER10-2092-000.

Applicants: Boralex Ashland LP.

Description: Boralex Ashland LP submits tariff filing per 35.12: Boralex Ashland LP Baseline Filing to be effective 8/3/2010.

Filed Date: 08/02/2010.

Accession Number: 20100802-5124.

Comment Date: 5 p.m. Eastern Time on Monday, August 23, 2010.

Docket Numbers: ER10-2093-000.

Applicants: Wolverine Power Supply Cooperative, Inc.

Description: Wolverine Power Supply Cooperative, Inc. submits tariff filing per 35.12: Refile Baseline Tariff Filing of Rate for Reactive Supply Service to be effective 8/2/2010.

Filed Date: 08/02/2010.

Accession Number: 20100802-5132.

Comment Date: 5 p.m. Eastern Time on Monday, August 23, 2010.

Docket Numbers: ER10-2094-000.

Applicants: Southwest Power Pool, Inc.

Description: Southwest Power Pool, Inc. submits tariff filing per 35.13(a)(2)(iii) 1166R11 Oklahoma Municipal Power Authority NITSA and NOA to be effective 7/30/2010.

Filed Date: 08/02/2010.

Accession Number: 20100802-5140.

Comment Date: 5 p.m. Eastern Time on Monday, August 23, 2010.

Docket Numbers: ER10-2095-000.

Applicants: Southwest Power Pool, Inc.

Description: Southwest Power Pool, Inc. submits tariff filing per 35.13(a)(2)(iii) 1154R5 Associated Electric Cooperative NITSA and NOA to be effective 7/30/2010.

Filed Date: 08/02/2010.

Accession Number: 20100802-5141.

Comment Date: 5 p.m. Eastern Time on Monday, August 23, 2010.

Docket Numbers: ER10-2096-000.

Applicants: Southwest Power Pool, Inc.

Description: Southwest Power Pool, Inc. submits tariff filing per 35.13(a)(2)(iii) 607R10 Westar Energy NITSA and NOA to be effective 7/30/2010.

Filed Date: 08/02/2010.

Accession Number: 20100802-5142.

Comment Date: 5 p.m. Eastern Time on Monday, August 23, 2010.

Docket Numbers: ER10-2097-000.

Applicants: KCP&L Greater Missouri Operations Company.

Description: KCP&L Greater Missouri Operations Company submits tariff filing per 35.12: KCP&L-GMO Baseline Filing (Market-Based Volume 28) to be effective 8/2/2010.

Filed Date: 08/02/2010.

Accession Number: 20100802-5172.

Comment Date: 5 p.m. Eastern Time on Monday, August 23, 2010.

Docket Numbers: ER10-2098-000.

Applicants: KCP&L Greater Missouri Operations Company.

Description: KCP&L Greater Missouri Operations Company submits tariff filing per 35.12: GMO Volume 33 (Cost-Based) Baseline Filing to be effective 8/2/2010.

Filed Date: 08/02/2010.

Accession Number: 20100802-5174.

Comment Date: 5 p.m. Eastern Time on Monday, August 23, 2010.

Docket Numbers: ER10-2099-000.

Applicants: The Empire District Electric Company.

Description: Empire District Electric Company submits an unexecuted Full Requirements Electric Service Agreement.

Filed Date: 08/02/2010.

Accession Number: 20100802-0222.

Comment Date: 5 p.m. Eastern Time on Monday, August 23, 2010.

Docket Numbers: ER10-2100-000.

Applicants: The Empire District Electric Company.

Description: Empire District Electric Company submits an unexecuted Wholesale Distribution Service Agreement.

Filed Date: 08/02/2010.

Accession Number: 20100802-0223.

Comment Date: 5 p.m. Eastern Time on Monday, August 23, 2010.

Docket Numbers: ER10-2101-000.

Applicants: The Empire District Electric Company.

Description: Empire District Electric Company submits an unexecuted Full Requirements Electric Service Agreement.

Filed Date: 08/02/2010.

Accession Number: 20100802-0224.

Comment Date: 5 p.m. Eastern Time on Monday, August 23, 2010.

Docket Numbers: ER10-2102-000.

Applicants: The Empire District Electric Company.

Description: Empire District Electric Company submits an unexecuted Wholesale Distribution Service Agreement.

Filed Date: 08/02/2010.

Accession Number: 20100802-0225.

Comment Date: 5 p.m. Eastern Time on Monday, August 23, 2010.

Docket Numbers: ER10-2103-000.

Applicants: The Empire District Electric Company.

Description: Empire District Electric Company submits an executed Wholesale Distribution Service Agreement.

Filed Date: 08/02/2010.

Accession Number: 20100802-0226.

Comment Date: 5 p.m. Eastern Time on Monday, August 23, 2010.

Docket Numbers: ER10-2104-000.

Applicants: The Empire District Electric Company.

Description: Empire District Electric Company submits an unexecuted Wholesale Distribution Service Agreement.

Filed Date: 08/02/2010.

Accession Number: 20100802-0227.

Comment Date: 5 p.m. Eastern Time on Monday, August 23, 2010.

Docket Numbers: ER10-2105-000.

Applicants: The Empire District Electric Company.

Description: Empire District Electric Company submits an unexecuted Full Requirements Electric Service Agreement.

Filed Date: 08/02/2010.

Accession Number: 20100802-0228.

Comment Date: 5 p.m. Eastern Time on Monday, August 23, 2010.

Docket Numbers: ER10-2106-000.

Applicants: The Empire District Electric Company.

Description: Empire District Electric Company submits an unexecuted Full Requirements Electric Service Agreement.

Filed Date: 08/02/2010.

Accession Number: 20100802-0229.

Comment Date: 5 p.m. Eastern Time on Monday, August 23, 2010.

Docket Numbers: ER10-2107-000.

Applicants: Nevada Power Company.

Description: NV Energy, Inc. submits an application for two Cost-Based Rate Schedules.

Filed Date: 08/02/2010.

Accession Number: 20100802-0230.

Comment Date: 5 p.m. Eastern Time on Monday, August 23, 2010.

Docket Numbers: ER10-2108-000.

Applicants: Heritage Stoney Corners Wind Farm I, LLC.

Description: Gray PLLC submits an application of Heritage Stoney Corners Wind Farm I, LLC et al. for Market-Based Rate Authority.

Filed Date: 08/02/2010.

Accession Number: 20100802-0231.

Comment Date: 5 p.m. Eastern Time on Monday, August 23, 2010.

Docket Numbers: ER10-2109-000.

Applicants: PJM Interconnection L.L.C.

Description: PJM Interconnection submits an executed interim interconnection service agreement.

Filed Date: 08/02/2010.

Accession Number: 20100802-0232.

Comment Date: 5 p.m. Eastern Time on Monday, August 23, 2010.

Docket Numbers: ER10-2111-000.

Applicants: MidAmerican Energy Company.

Description: MidAmerican Energy Company submits proposed revisions to its Open Acess Transmission Tariff etc.

Filed Date: 08/02/2010.

Accession Number: 20100802-0236.

Comment Date: 5 p.m. Eastern Time on Monday, August 23, 2010.

Docket Numbers: ER10-2112-000.

Applicants: Cleco Power LLC.

Description: Cleco Power LLC submits tariff filing per 35.12: Rate Schedule 10 Baseline to be effective 8/3/2010.

Filed Date: 08/03/2010.

Accession Number: 20100803-5032.

Comment Date: 5 p.m. Eastern Time on Tuesday, August 24, 2010.

Docket Numbers: ER10-2113-000.

Applicants: Cleco Power LLC.

Description: Cleco Power LLC submits tariff filing per 35.13(a)(2)(iii): Rate Schedule 10 to be effective 8/3/2010.

Filed Date: 08/03/2010.

Accession Number: 20100803-5037.

Comment Date: 5 p.m. Eastern Time on Tuesday, August 24, 2010.

Docket Numbers: ER10-2114-000.

Applicants: Southern California Edison Company.

Description: Southern California Edison Company submits tariff filing per 35.13(a)(2)(iii): Letter Agreement Coram Energy N 080310 to be effective 7/9/2010.

Filed Date: 08/03/2010.

Accession Number: 20100803-5071.

Comment Date: 5 p.m. Eastern Time on Tuesday, August 24, 2010.

Take notice that the Commission received the following land acquisition reports:

Docket Numbers: LA10-2-000.

Applicants: Order 697-C 2010 2nd Qtr Site Acquisition.

Description: Westar Energy, Inc., et al. submits Quarterly Land Acquisition Report for Second Quarter 2010.

Filed Date: 07/27/2010.

Accession Number: 20100727-5160.

Comment Date: 5 p.m. Eastern Time on Tuesday, August 17, 2010.

Docket Numbers: LA10-2-000.

Applicants: Order 697-C 2010 2nd Qtr Site Acquisition.

Description: Notice of Change in Status of Ridge Crest Wind Partners, LLC, et. al.

Filed Date: 08/02/2010.

Accession Number: 20100802-5191.

Comment Date: 5 p.m. Eastern Time on Monday, August 23, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-20134 Filed 8-13-10; 8:45 am]

BILLING CODE 6717-01-P